DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the Army Education Advisory Committee (“the Committee”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR 102-3.50(d).

The Committee is a discretionary Federal advisory committee that shall provide independent advice and recommendations to the Secretary of Defense or the Deputy Secretary of Defense, through the Secretary of the Army and the Chief of Staff of the U.S. Army, on matters relating to U.S. Army educational matters. Specifically, the Committee will focus on matters pertaining to the educational, doctrinal, and research policies and activities of the U.S. Army's educational programs, to include the U.S. Army's joint professional military education programs.

The Committee will assess and provide independent advice and recommendations across the spectrum of educational policies, school curricula, educational philosophy and objectives, program effectiveness, facilities, staff and faculty, instructional methods, and other aspects of the organization and management of these programs. In addition, the Committee shall provide independent advice and recommendations on matters pertaining to the Army Historical Program and the roles and missions of the U.S. Army Center of Military History, particularly as they pertain to the study and use of military history in Army schools.

The Department of Defense (DoD), through the Department of the Army and United States Army Training and Doctrine Command (TRADOC), shall provide support, as deemed necessary, for the performance of the Committee's functions, and shall ensure compliance with the requirements of the FACA, the Government in the Sunshine Act of 1976 (5 U.S.C. 552b, as amended) (“the Sunshine Act”), governing Federal statutes and regulations, and established DoD policies and procedures.

The Committee shall be composed of not more than 15 members. The membership shall include not more than 13 individuals who are eminent authorities in the fields of defense, management, leadership, and academia, including those who are deemed to be historical scholars; the Chief Historian of the Army, U.S. Army, Center of Military History; and the Assistant Deputy Chief of Staff, G-3/5/7 for U.S. Army Training and Doctrine Command shall serve as a non-voting member of the Committee. The members shall be appointed by the Secretary of Defense or the Deputy Secretary of Defense and subject to annual renewals.

Committee members shall serve a term of service of one-to-four years, but no member may serve more than two consecutive terms of service without approval from the Secretary of Defense or the Deputy Secretary of Defense.

Committee members appointed by the Secretary of Defense or the Deputy Secretary of Defense, who are not full-time Federal officers or employees, shall be appointed as experts or consultants pursuant to 5 U.S.C. 3109, to serve as special government employee (SGE) members. Those individuals serving on the Committee who are full-time or permanent part-time Federal employees shall be appointed to serve as regular government employee (RGE) members pursuant to 41 CFR 102-3.130(a).

The Secretary of the Army is delegated the authority to appoint the Chair and Vice Chair of the Committee for a three-year period with annual renewals, not to exceed the member's approved term of service, from among the approved Committee membership. The Secretary of the Army may re-delegate this authority in writing.

With the exception of reimbursement for official Committee-related travel and per diem, Committee members and any non-voting subject matter experts shall serve without compensation.

DoD, when necessary and consistent with the Committee's mission and DoD policies and procedures, may establish subcommittees, task forces, or working groups to support the Committee. Establishment of subcommittees will be based upon a written determination, to include terms of reference, by the Secretary of Defense, the Deputy Secretary of Defense, or the Secretary of the Army, as the DoD Sponsor.

Such subcommittees shall not work independently of the Committee and shall report all of their recommendations and advice solely to the Committee for full and open deliberation and discussion. Subcommittees, task forces, or working groups have no authority to make decisions and recommendations, verbally or in writing, on behalf of the Committee. No subcommittee or any of its members can update or report, verbally or in writing, on behalf of the Committee, directly to the DoD or any Federal officer or employee.

The Secretary of Defense or the Deputy Secretary of Defense shall appoint subcommittee members to a term of service of one-to-four years, even if the member in question is a member of the Committee. Subcommittee members shall not serve more than two consecutive terms of service unless authorized by the Secretary of Defense or the Deputy Secretary of Defense. Subcommittee members, if not full-time or permanent part-time Federal employees, will be appointed as experts or consultants, pursuant to 5 U.S.C. 3109, to serve as SGE members, whose appointments must be renewed on an annual basis. Those individuals who are full-time or permanent part-time Federal employees shall be appointed to serve as RGE members, pursuant to 41 CFR 102-3.130(a). With the exception of reimbursement of official travel and per diem related to the Committee or its subcommittees, subcommittee members shall serve without compensation.

All subcommittees operate under the provisions of FACA, the Sunshine Act, governing Federal statutes and regulations, and established DoD policies and procedures. The Committee shall include up to four permanent subcommittees consistent with its mission and established Federal and DoD policies and procedures. The Committee shall establish and maintain four permanent subcommittees as described immediately below.

a. The United States Army War College Board of Visitors subcommittee shall be comprised of no more than 12 members who are eminent authorities in the fields of defense, management, leadership, and academia, and shall focus primarily on the United States Army War College. The estimated number of meetings is two per year.

b. The Command and General Staff College Board of Visitors subcommittee shall be comprised of no more than 12 members who are eminent authorities in the fields of defense, management, leadership, and academia, and shall focus primarily on the Command and General Staff College. The estimated number of meetings is one per year.

c. The Defense Language Institute Foreign Language Center Board of Visitors shall be comprised of no more than 12 members who are eminent authorities in the fields of defense, management, leadership, and academia, and shall focus primarily on the Defense Language Institute Foreign Language Center. The estimated number of meetings is two per year.

d. The Department of the Army Historical Advisory Subcommittee shall be comprised of no more than 12 members: six members from academia who are deemed to be historical scholars and six members appointed, ex officio, RGE members. The Department of the Army Historical Advisory Subcommittee shall focus primarily on (1) the conformity of the Army's historical work and methods with professional standards, (2) ways to increase cooperation between the historical and military professions in advancing the purpose of the Army Historical Program, (3) approval of the annual Army Historical Program report, and (4) the furtherance of the mission of the U.S. Army Center of Military History to promote the study and use of military history in both civilian and military schools. The estimated number of meetings is one per year.

The estimated number of Committee meetings is two per year.

The Committee's Designated Federal Officer (DFO) shall be a full-time or permanent part-time DoD employee and shall be appointed in accordance with established DoD policies and procedures.

The Committee's DFO, pursuant to DoD policy, shall be a full-time or permanent part-time DoD employee, and shall be appointed in accordance with established DoD policies and procedures.

The Committee's DFO is required to be in attendance at all meetings of the Committee and any subcommittees for the entire duration of each and every meeting; however, in the absence of the DFO, a properly approved Alternate DFO shall attend the entire duration of all of the meetings of the Committee and its subcommittees.

The DFO, or the Alternate DFO, shall call all meetings of the Committee and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Army Education Advisory Committee membership about the Committee's mission and functions. Written statements may be submitted at any time or in response to the stated agenda of planned meeting of Army Education Advisory Committee. All written statements shall be submitted to the DFO for the Army Education Advisory Committee, and this individual will ensure that the written statements are provided to the membership for their consideration. Contact information for the Army Education Advisory Committee DFO can be obtained from the GSA's FACA Database— http://www.facadatabase.gov/.

The DFO, pursuant to 41 CFR 102-3.150, will announce planned meetings of the Army Education Advisory Committee. The DFO, at that time, may provide additional guidance on the submission of written statements that are in response to the stated agenda for the planned meeting in question.

Dated: July 18, 2014.
Aaron Siegel,
Alternate OSD Federal Register Liaison Officer, Department of Defense.

[FR Doc. 2014-17308 Filed 7-22-14; 8:45 am]

BILLING CODE 5001-06-P